DEPARTMENT OF THE TREASURY

Office of Foreign Assets Control

Designation of One (1) Individual Pursuant to Executive Orders 13572 of April 29, 2011, “Blocking Property of Certain Persons With Respect to Human Rights Abuses in Syria” and 13573 of May 18, 2011, “Blocking Property of Senior Officials of the Government of Syria”

AGENCY: Office of Foreign Assets Control, Treasury.

ACTION: Notice.

SUMMARY: The Treasury Department's Office of Foreign Assets Control (“OFAC”) is publishing the name of one (1) individual whose property and interests in property are blocked pursuant to Executive Order 13572 of April 29, 2011, “Blocking Property of Certain Persons with Respect to Human Rights Abuses in Syria” and Executive Order 13573 of May 18, 2011, “Blocking Property of Senior Officials of the Government of Syria.”

DATES: The designation by the Director of OFAC of this individual identified in this notice, pursuant to Executive Order 13572 and Executive Order 13573, is effective on May 16, 2013.

FOR FURTHER INFORMATION CONTACT: Assistant Director, Compliance Outreach & Implementation, Office of Foreign Assets Control, Department of the Treasury, 1500 Pennsylvania Avenue NW. (Treasury Annex), Washington, DC 20220, Tel.: 202/622-2490.

SUPPLEMENTARY INFORMATION:

Electronic and Facsimile Availability

This document and additional information concerning OFAC are available from OFAC's Web site (www.treas.gov/ofac) or via facsimile through a 24-hour fax-on-demand service, Tel.: 202/622-0077.

Background

On May 16, 2013, the Director of OFAC, in consultation with the Department of State, designated one (1) individual pursuant to one or more of the criteria set forth in subsection 1(b) of Executive Order 13572, and designated, pursuant to one or more of the criteria set forth in subsection 1 (b) of Executive Order 13573.

The listing for the individual on OFAC's list of Specially Designated Nationals and Blocked Persons appears as follows:

Individual

1. AL-A-FREIJ, Fahd Jassem (a.k.a. Al-Freij, Fahad Jassim; a.k.a. Al-Furayj, Fahd Jasim); DOB 01 Jan 1950; alt. DOB 1947; POB Hama, Syria; nationality Syria; Deputy Commander-in-Chief of the Army and the Armed Forces and Minister of Defense (individual) [SYRIA].

Dated: May 16, 2013.
John H. Battle,
Acting Director, Office of Foreign Assets Control.

[FR Doc. 2013-12449 Filed 5-23-13; 8:45 am]

BILLING CODE 4810-AL-P